ENVIRONMENTAL PROTECTION AGENCY

[EPA-HQ-OPP-2022-0544; FRL-9988-02-OCSPP]

Pesticide Registration Maintenance Fee: Product Cancellation Order for Certain Pesticide Registrations

AGENCY: Environmental Protection Agency (EPA).

ACTION: Notice.

SUMMARY: This notice announces EPA's order for the cancellations, voluntarily requested by the registrants and accepted by the Agency, of the products listed in Table 1 of Unit III, pursuant to the Federal Insecticide, Fungicide, and Rodenticide Act (FIFRA).

DATES: The cancellations are effective October 18, 2022.

FOR FURTHER INFORMATION CONTACT: Brenda Minnema, Registration Division (7505P), Office of Pesticide Programs, Environmental Protection Agency, 1200 Pennsylvania Ave. NW, Washington, DC 20460-0001; telephone number: (202) 566-2840; email address: minnema.brenda@epa.gov.

SUPPLEMENTARY INFORMATION:

I. General Information

A. Does this action apply to me?

This action is directed to the public in general and may be of interest to a wide range of stakeholders including environmental, human health, and agricultural advocates; the chemical industry; pesticide users; and members of the public interested in the sale, distribution, or use of pesticides. Since others also may be interested, the Agency has not attempted to describe all the specific entities that may be affected by this action.

B. How can I get copies of this document and other related information?

The docket for this action, identified by docket identification (ID) number EPA-HQ-OPP-2022-0544, is available at http://www.regulations.gov or at the Office of Pesticide Programs Regulatory Public Docket (OPP Docket) in the Environmental Protection Agency Docket Center (EPA/DC), West William Jefferson Clinton Bldg., Rm. 3334, 1301 Constitution Ave. NW, Washington, DC 20460-0001. The Public Reading Room is open from 8:30 a.m. to 4:30 p.m., Monday through Friday, excluding legal holidays. The telephone number for the Public Reading Room and the OPP Docket is (202) 566-1744. For the latest status information on EPA/DC services and docket access, visit https://www.epa.gov/dockets.

II. Background

This cancellation order follows a notice that published in the Federal Register of August 12, 2022 (87 FR 49822 (FRL-9988-01-OCSPP) that announced the receipt of requests from the registrants listed in Table 2 of Unit III. to voluntarily cancel these product registrations. In that notice, EPA indicated that it would issue an order implementing the cancellations, unless the Agency received substantive comments within the 30-day comment period that would merit its further review of these requests, or unless the registrants withdrew their requests. The Agency did not receive any comments by the end of the comment period (September 12, 2022). Accordingly, EPA hereby issues in this notice a cancellation order granting the requested cancellations. Any distribution, sale, or use of the products subject to this cancellation order is permitted only in accordance with the terms of this order, including any existing stocks provisions.

FIFRA section 4(i)(5) (7 U.S.C. 136a-1(i)(5)) requires that all pesticide registrants pay an annual registration maintenance fee, due by January 15 of each year, to keep their registrations in effect. This requirement applies to all registrations granted under FIFRA section 3 (7 U.S.C. 136a) as well as those granted under FIFRA section 24(c) (7 U.S.C. 136v(c)) to meet special local needs. Registrations for which the fee is not paid are subject to cancellation by order and without a hearing.

Under FIFRA, the EPA Administrator may reduce or waive maintenance fees for minor agricultural use pesticides when it is determined that the fee would be likely to cause significant impact on the availability of the pesticide for the use.

In fiscal year 2022, maintenance fees were collected in one billing cycle. On December 10, 2021, all holders of either FIFRA section 3 registrations or FIFRA section 24(c) registrations were sent lists of their active registrations, along with forms and instructions for responding. They were asked to identify which of their registrations they wished to maintain in effect, and to calculate and remit the appropriate maintenance fees. Most responses were received by the statutory deadline of January 18, 2022. A notice of intent to cancel was sent in May of 2022 to companies who did not respond and to companies who responded but paid for less than all their registrations.

In fiscal year 2022, the Agency has waived the fees for 307 minor agricultural use registrations at the request of the registrants. Maintenance fees have been paid for about 17,593 FIFRA section 3 registrations, or about 98% of the registrations on file in October 2021. Fees have been paid for about 1,878 FIFRA section 24(c) registrations, or about 90% of the total on file in October 2021. Cancellations for non-payment of the maintenance fee affect 124 FIFRA section 3 registrations and 15 FIFRA section 24(c) registrations. These cancellations can be found in Table 3 below. Cancellations for companies paying the fee at one of the capped payment amounts are considered voluntary cancellations since the registration could be maintained without an additional fee payment. These cancellations are subject to a 30-day comment period and are listed in Table 1 below.

The cancellation orders generally permit registrants to continue to sell and distribute existing stocks of the canceled products until one (1) year after the date on which the fee was due. Existing stocks already in the hands of dealers or users, however, can generally be distributed, sold, or used legally until they are exhausted. Existing stocks are defined as those stocks of a registered pesticide product which are currently in the United States, and which have been packaged, labeled, and released for shipment prior to the effective date of the cancellation order.

The exceptions to these general rules are cases where more stringent restrictions on sale, distribution, or use of the products have already been imposed, through special reviews or other Agency actions. These general provisions for disposition of stocks should serve in most cases to cushion the impact of these cancellations while the market adjusts.

III. What action is the Agency taking?

This notice announces the cancellation of products registered under FIFRA section 3 (7 U.S.C. 136a). Table 1 of this unit lists the product cancellations, as requested by registrants, in sequence by registration number (or company number and 24(c) number).

Table 1—Product Cancellations
Registration No. | Company No. | Product name | Active ingredient
100-1230 | 100 | Lambda-Cyhalothrin 5 CS Manufacturing Use Product | lambda-Cyhalothrin.
100-1238 | 100 | Scimitar GR Insecticide | lambda-Cyhalothrin.
100-1239 | 100 | Lambda-CY 0.045% H&G Granule Insecticide | lambda-Cyhalothrin.
100-1273 | 100 | A14796 Insecticide | lambda-Cyhalothrin.
100-1274 | 100 | A 14797 Insecticide | lambda-Cyhalothrin.
100-1279 | 100 | Revus OPTI | Chlorothalonil; Mandipropamide Technical.
100-1304 | 100 | Thiamethoxam 0.20/Lambda-Cyhalothrin 0.04 L&G GR | Thiamethoxam; lambda-Cyhalothrin.
100-1334 | 100 | Thiamethoxam 0.40/Lambda-cyhalothrin 0.16 ME Concentrate | Thiamethoxam; lambda-Cyhalothrin.
100-1336 | 100 | Thiamethoxam 0.010/Lambda-cyhalothrin 0.004 ME RTU | Thiamethoxam; lambda-Cyhalothrin.
100-1545 | 100 | Force 10CS Insecticide | Tefluthrin.
100-1546 | 100 | Force 15CS Insecticide | Tefluthrin.
100-1569 | 100 | Force CS MUP | Tefluthrin.
239-2657 | 239 | Ortho Groundclear Total Vegetation Killer | Glyphosate-isopropylammonium; Imazapyr, isopropylamine salt.
239-2686 | 239 | Ground Clear RTU | Glyphosate-isopropylammonium; Imazapyr, isopropylamine salt.
239-2735 | 239 | Groundclear Concentrate | Glyphosate-isopropylammonium; Imazapyr, isopropylamine salt.
239-2736 | 239 | Groundclear W RTU | Glyphosate-isopropylammonium; Imazapyr, isopropylamine salt.
241-331 | 241 | Pursuit Plus EC Herbicide | Imazethapyr; Pendimethalin.
241-404 | 241 | Standout Herbicide | Glyphosate-isopropylammonium; Imazethapyr.
241-414 | 241 | Onestep Herbicide | Glyphosate-isopropylammonium; Imazapyr, isopropylamine salt.
352-556 | 352 | Dupont Matrix Herbicide | Rimsulfuron.
352-571 | 352 | Dupont Basis Herbicide | Rimsulfuron; Thifensulfuron.
352-589 | 352 | Dupont Canopy XL Herbicide | Chlorimuron; Sulfentrazone.
352-608 | 352 | Dupont Steadfast Herbicide | Nicosulfuron; Rimsulfuron.
352-649 | 352 | Dupont DPX-E9636 25DF Corn Herbicide | Rimsulfuron.
352-869 | 352 | Dupont Diligent Herbicide | Chlorimuron; Flumioxazin; Rimsulfuron.
432-1550 | 432 | Velpar ULW Herbicide | Hexazinone.
499-502 | 499 | TC 241 | lambda-Cyhalothrin.
499-503 | 499 | TC 240 | lambda-Cyhalothrin.
524-657 | 524 | MON 88702 X MON 15985 X COT102 SI | Bacillus thuringiensis Cry2Ab protein and the genetic material necessary for its production (vector GHBK11) in cotton; Bacillus thuringiensis Vip3Aa19 protein and the genetic material necessary for its production (vector pCOT1) in Event COT102 cotton (SYN-IR102-7); Bacillus thuringiensis var. kurstaki delta endotoxin protein as produced by the Cry1A(c) gene and its controlling sequences; Bacillus thuringiensis mCry51Aa2 protein and the genetic material necessary for its production (vector PV-GHIR508523) in MON 88702 cotton.
2792-79 | 2792 | Trupick 0.7 | 1-Methylcyclopropene.
2792-83 | 2792 | Trupick 2.0 | 1-Methylcyclopropene.
3432-56 | 3432 | Scorch II | Lithium hypochlorite.
3432-64 | 3432 | Sildate | Nanosilver 004.
3432-71 | 3432 | Silspa Disinfectant | Nanosilver 004.
3862-104 | 3862 | Hospital Surface Disinfectant and Deodorizer | o-Phenylphenol (No Inert Use); 4-tert-Amylphenol.
3862-177 | 3862 | TEK-TROL Disinfectant Cleaner Concentrate | o-Phenylphenol (No Inert Use); 2-Benzyl-4-chlorophenol; 4-tert-Amylphenol.
3862-180 | 3862 | Pheno-Tek II | o-Phenylphenol (No Inert Use); 2-Benzyl-4-chlorophenol; 4-tert-Amylphenol.
4822-352 | 4822 | Raid Liquid Control Tip Ant and Roach Killer | Cyfluthrin.
4822-375 | 4822 | Raid Max Home Barrier Insecticide Concentrate | Cyfluthrin.
4822-376 | 4822 | Raid Powder Keg for Roaches | Cyfluthrin.
4822-383 | 4822 | Raid Fumigator G | Cyphenothrin.
4822-393 | 4822 | Raid Yard Guard Concentrate | Cyfluthrin.
4822-481 | 4822 | Raid Max BB | Cyfluthrin.
4822-492 | 4822 | Rysn Formula 1 Insecticide | Cyfluthrin.
4822-493 | 4822 | Rysn Formula 2 Insecticide | Cyfluthrin.
4822-494 | 4822 | Rysn Formula 3 Insecticide | Cyfluthrin.
4822-495 | 4822 | Rysn Formula 4 | Cyfluthrin.
4822-496 | 4822 | Rysn Formula 5 | Cyfluthrin.
4822-497 | 4822 | Rysn Formula 6 Insecticide | Cyfluthrin.
4822-581 | 4822 | RWH 34 | Cyfluthrin; Prallethrin.
4822-582 | 4822 | AK2C | Cyfluthrin; Piperonyl butoxide; Pyrethrins.
4822-598 | 4822 | Peduncle KMP | Esfenvalerate.
4822-600 | 4822 | New Orleans Aerosol | Cypermethrin; Imiprothrin.
5383-113 | 5383 | Polyphase CST-1 | Carbamic acid, butyl-, 3-iodo-2-propynyl ester.
7969-144 | 7969 | Frontier Herbicide | Dimethenamid.
7969-147 | 7969 | Frontier 6.0 Herbicide | Dimethenamid.
7969-254 | 7969 | BAS 756 00 H Herbicide | Glyphosate-isopropylammonium; Pendimethalin.
7969-264 | 7969 | BAS 555 SL Fungicide | Metconazole.
7969-287 | 7969 | Triticonazole HL Fungicide Seed Treatment | Triticonazole.
7969-295 | 7969 | Charter F2 Fungicide Seed Treatment | Metalaxyl; Triticonazole.
7969-377 | 7969 | Diamir TTZ Fungicide Seed Treatment | Triticonazole.
7969-386 | 7969 | Charter Fungicide Seed Treatment | Triticonazole.
7969-387 | 7969 | Charter PB Fungicide Seed Treatment | Thiram; Triticonazole.
8033-1 | 8033 | Granular HI Chlon | Calcium hypochlorite.
8033-2 | 8033 | HI-Chlon Tablet | Calcium hypochlorite.
8033-7 | 8033 | HI-Chlon 65 EU | Calcium hypochlorite.
8033-20008 | 8033 | HI-Chlon 65 | Calcium hypochlorite.
8329-39 | 8329 | BTI Granules | Bacillus thuringiensis subspecies israelensis strain AM 65-52 solids, spores and insecticidal toxins.
9198-60 | 9198 | Easy Weeder Flower and Garden Weed Preventer | Trifluralin.
9198-175 | 9198 | Anderson's Turf Fertilizer Plus Southern Weedgrass Control | Pendimethalin.
9198-199 | 9198 | TGR Winter Overseeding Enhancer | Paclobutrazol.
9688-215 | 9688 | Chemsico Herbicide Granules DN | Dithiopyr.
9688-216 | 9688 | Chemsico Herbicide Granules DN2 | Dithiopyr.
9688-234 | 9688 | Pursell 3 Deep M & B Granular | Dithiopyr.
9688-267 | 9688 | Chemsico Herbicide Granules Formula D-20 | Dithiopyr.
10324-99 | 10324 | Maquat 10-PD | Alkyl* dimethyl benzyl ammonium chloride *(60%C14, 30%C16, 5%C18, 5%C12); Alkyl* dimethyl ethylbenzyl ammonium chloride *(68%C12, 32%C14).
10324-142 | 10324 | Maquat MQ2525M-14 | Alkyl* dimethyl benzyl ammonium chloride *(60%C14, 30%C16, 5%C18, 5%C12); Alkyl* dimethyl ethylbenzyl ammonium chloride *(68%C12, 32%C14).
33270-26 | 33270 | Simazine 90DF | Simazine.
33270-27 | 33270 | Simazine 4L | Simazine.
51036-312 | 51036 | Glyphosate 4 Herbicide | Glyphosate-isopropylammonium.
51036-331 | 51036 | Gly-Flo Plus | Glyphosate-isopropylammonium.
51036-332 | 51036 | Gly-Flo Aquatic | Glyphosate-isopropylammonium.
51036-333 | 51036 | Gly-Flo Reduced Tillage | Glyphosate-isopropylammonium.
51036-334 | 51036 | Gly-Flo Sugarcane | Glyphosate-isopropylammonium.
51036-336 | 51036 | Gly-Flo Forestry | Glyphosate-isopropylammonium.
51036-347 | 51036 | Gly-Flo 62% SC AG | Glyphosate-isopropylammonium.
91234-147 | 91234 | Glyphosate Plus | Glyphosate-isopropylammonium.
93930-5 | 93930 | Avalaire PPZ 41.8 EC | Propiconazole.
93930-11 | 93930 | Avalaire Diflu 2 L | Diflubenzuron.
AZ070002 | 524 | Bollgard II | Bacillus thuringiensis Cry2Ab protein and the genetic material necessary for its production (vector GHBK11) in cotton; Bacillus thuringiensis var. kurstaki delta endotoxin protein as produced by the Cry1A(c) gene and its controlling sequences.
AZ110001 | 12455 | Contrac All-Weather Blox | Bromadiolone.
CA170003 | 5481 | K-Salt Fruit Fix 800 | Potassium 1-naphthaleneacetate.
CA170010 | 66222 | Nevado 4F | Iprodione.
CO050004 | 100 | Beacon | Primisulfuron-methyl.
CO180001 | 5481 | Parazone 3SL | Paraquat dichloride.
CO180002 | 5481 | Parazone 3SL | Paraquat dichloride.
FL030010 | 432 | Dupont Escort XP Herbicide | Metsulfuron.
FL040002 | 432 | Dupont Escort Herbicide | Metsulfuron.
GA130003 | 10163 | Malathion 8 | Malathion (No Inert Use).
GA130004 | 10163 | Malathion 8 | Malathion (No Inert Use).
HI060004 | 432 | Dupont Escort XP Herbicide | Metsulfuron.
HI140002 | 100 | Provaunt | Fenamiphos.
ID000009 | 5481 | Amvac AZA 3% EC | Azadirachtin.
ID070003 | 66222 | Diazinon AG600 | Diazinon.
ID130005 | 66222 | Fanfare 2 ES Insecticide/Miticide | Bifenthrin.
ID990007 | 100 | Beacon Herbicide | Primisulfuron-methyl.
ID990024 | 10163 | Imidan 70-WP Agricultural Insecticide | Phosmet.
IL060002 | 100 | Beacon | Primisulfuron-methyl.
IL150001 | 100 | Reflex Herbicide | Sodium salt of fomesafen.
IN110003 | 5481 | Dupont Assure II Herbicide | Quizalofop-p-ethyl.
KS030004 | 432 | Dupont Escort Herbicide | Metsulfuron.
KY140001 | 10163 | Malathion 8 | Malathion (No Inert Use).
LA131001 | 81880 | GWN-3061 | Halosulfuron-methyl.
LA170004 | 66222 | Fluensulfone 480EC | Fluensulfone.
ME140001 | 81880 | GWN-1715-0 | Halosulfuron-methyl.
ME160003 | 60063 | Echo ZN | Chlorothalonil.
ME161001 | 81880 | Sandea Herbicide | Halosulfuron-methyl.
MI170001 | 66222 | Fluensulfone 480EC | Fluensulfone.
MN040002 | 100 | Dual Magnum Herbicide | S-Metolachlor.
MN080006 | 100 | Dual Magnum | S-Metolachlor.
MN080010 | 81880 | Nexter | Pyridaben.
MN180004 | 100 | Beacon Herbicide | Primisulfuron-methyl.
MN200005 | 100 | Dual Magnum Herbicide | S-Metolachlor.
MN200006 | 100 | Reflex Herbicide | Sodium salt of fomesafen.
MO100005 | 67690 | Natrix | Copper carbonate, basic.
NE060002 | 100 | Reflex Herbicide | Sodium salt of fomesafen.
NJ080001 | 100 | Beacon | Primisulfuron-methyl.
NJ130010 | 10163 | Malathion 8 | Primisulfuron-methyl.
NM110002 | 524 | Bollgard II Cotton | Bacillus thuringiensis Cry2Ab protein and the genetic material necessary for its production (vector GHBK11) in cotton; Bacillus thuringiensis var. kurstaki delta endotoxin protein as produced by the Cry1A(c) gene and its controlling sequences.
NM170001 | 524 | COT102 X MON 15985 | Bacillus thuringiensis Cry2Ab protein and the genetic material necessary for its production (vector GHBK11) in cotton; Bacillus thuringiensis Vip3Aa19 protein and the genetic material necessary for its production (vector pCOT1) in Event COT102 cotton (SYN-IR102-7); Bacillus thuringiensis var. kurstaki strain HD73(Cry1AC (synpro)) insecticidal crystal protein and the genetic material necessary for its production in cotton.
NY080015 | 100 | Beacon | Primisulfuron-methyl.
OK190004 | 5481 | Parazone 3SL Herbicide | Paraquat dichloride.
OR110006 | 7969 | Finale Herbicide | Glufosinate.
PA070003 | 10163 | Nexter | Pyridaben.
PR150002 | 100 | Warrior II With Zeon Technology | lambda-Cyhalothrin.
SC100003 | 67690 | Natrix | Copper carbonate, basic.
TX070009 | 10163 | Nexter | Pyridaben.
TX120010 | 100 | Gramoxone SL 2.O | Paraquat dichloride.
TX120013 | 241 | Prowl H2O Herbicide | Pendimethalin.
TX170003 | 524 | COT102 X MON 15985 | Bacillus thuringiensis Cry2Ab protein and the genetic material necessary for its production (vector GHBK11) in cotton; Bacillus thuringiensis Vip3Aa19 protein and the genetic material necessary for its production (vector pCOT1) in Event COT102 cotton (SYN-IR102-7); Bacillus thuringiensis var. kurstaki strain HD73(Cry1AC (synpro)) insecticidal crystal protein and the genetic material necessary for its production in cotton.
TX170004 | 10163 | Treflan HFP | Trifluralin.
TX170005 | 10163 | Treflan TR-10 | Trifluralin.
UT180010 | 5481 | Parazone 3SL Herbicide | Paraquat dichloride.
WA010004 | 5481 | K-Salt Fruit Fix 200 | Potassium 1-naphthaleneacetate.
WA040022 | 10163 | Onager Miticide | Hexythiazox.
WA060019 | 7173 | Rozol Pellets | Chlorophacinone.
WA090017 | 81880 | GWN-1715 | Halosulfuron-methyl.
WA130004 | 10163 | Malathion 8 | Primisulfuron-methyl.
WA960002 | 100 | Beacon Herbicide | Primisulfuron-methyl.

Table 2 of this unit includes the names and addresses of record for all registrants of the products in Table 1 of this unit, in sequence by EPA company number. This number corresponds to the first part of the EPA registration numbers of the products listed in Table 1 of this unit.

Table 2—Registrants of the Voluntarily Cancelled Products
EPA company No. | Company name and address
100 | Syngenta Crop Protection, LLC, 410 Swing Road, P.O. Box 18300, Greensboro, NC 27419.
239 | The Scotts Company, P.O. Box 190, Marysville, OH 43040.
241 | BASF Corporation, 26 Davis Drive, P.O. Box 13528, Research Triangle Park, NC 27709.
352 | Corteva Agrosciences LLC, 9330 Zionsville Road, Indianapolis, IN 46268.
432 | Bayer Environmental Science, 700 Chesterfield Parkway West, Chesterfield, MO 63017.
499 | BASF Corporation, 26 Davis Drive, P.O. Box 13528, Research Triangle Park, NC 27709.
524 | Bayer CropScience LP, 800 N Lindbergh Blvd., St. Louis, MO 63141.
2792 | Decco US Post-Harvest Inc., 1713 South California Avenue, Monrovia, CA 91016.
3432 | N. Jonas & Co., Inc., 4520 Adams Circle, P.O. Box 425, Bensalem, PA 19020.
3862 | ABC Compounding Co., Inc. P.O. Box 16247, Atlanta, GA 30321.
5383 | Troy Chemical Corp., c/o. Troy Corporation, 8 Vreeland Road, Florham Park, NJ 07932.
5481 | AMVAC Chemical Corporation, 4695 MacArthur Court, Suite 1200, Newport Beach, CA 92660.
7173 | Liphatech, Inc., 3600 W Elm Street, Milwaukee, WI 53209.
7969 | BASF Corporation, 26 Davis Drive, P.O. Box 13528, Research Triangle Park, NC 27709.
8033 | Nippon Soda Co., Ltd., 379 Thornall Street, 5th Floor, Edison, NJ 08837.
8329 | Clarke Mosquito Control Products, Inc., 675 Sidwell Court, St. Charles, IL 60174.
9198 | The Andersons, Inc., 1947 Briarfield Blvd, P.O. Box 119, Maumee, OH 43537.
9688 | Chemsico, A Division of United Industries Corp., P.O. Box 142642, St. Louis, MO 63114.
10163 | Gowan Company, 370 S Main Street, Yuma, AZ 85366.
10324 | Mason Chemical Company, 9075 Centre Pointe Drive, Suite 400, West Chester, OH 45069.
12455 | Bell Laboratories, Inc., 3699 Kinsman Blvd., Madison, WI 53704.
33270 | Winfield Solutions, LLC, P.O. Box 64589, St. Paul, MN 55164.
51036 | BASF Sparks LLC, P.O. Box 13528, Research Triangle Park, NC 27709.
60063 | SIPCAM Agro USA, Inc., 2525 Meridian Pkwy., Suite 350, Durham, NC 27713.
66222 | Makhteshim Agan of North America, Inc., D/B/A ADAMA, 3120 Highwoods Blvd., Suite 100, Raleigh, NC 27604.
67690 | SEPRO Corporation, 11550 N Meridian Street, Suite 600, Carmel, IN 46032.
80289 | Isagro S.P.A., D/B/A Isagro USA, Inc., 1005 Slater Road, Suite 212, Durham, NC 27703.
81880 | Canyon Group LLC, 370 S Main Street, Yuma, AZ 85360.
91234 | Atticus, LLC, 5000 Centregreen Way, Suite 100, Cary, NC 27513.
93930 | Avalaire, LLC, 1204 Village Market Place, #173, Morrisville, NC 27560.

Table 3 of this unit lists all the FIFRA sections 3 and 24(c) registrations that were canceled for non-payment of the 2022 maintenance fee. These registrations were canceled by order on August 11, 2022, without a hearing.

Table 3—Registrations Cancelled for Non-Payment of 2022 Maintenance Fee
Registration No. | Company No. | Product name | Active ingredient
3-19 | 3 | Harris Flea & Tick Killer Carpet Powder | Phenothrin.
3-20 | 3 | Happy Horse | Pyrethrins; MGK 326.
3-22 | 3 | Davis Flea & Tick Mist | MGK 264; Piperonyl butoxide; Pyrethrins; MGK 326.
550-20003 | 550 | Liquichlor 9.2% Solution | Sodium hypochlorite.
833-72 | 833 | AFCO 4334 | Phosphoric acid.
1157-43 | 1157 | Moorman's Special PHOS IGR Minerals | S-Methoprene.
2568-99 | 2568 | Antifouling Seaforce 300 AV Dark Red | Cuprous oxide; 3(2H)-Isothiazolone, 4,5-dichloro-2-octyl-.
2568-102 | 2568 | Antifouling Seaforce 100 AV Dark Red 3GCDRD | Cuprous oxide.
2693-18 | 2693 | Viny-Lux Vinyl-Base 340 Antifouling Blue | Cuprous oxide.
2693-70 | 2693 | Latenac Antifouling Red | Cuprous oxide.
2693-180 | 2693 | Interviron BRA740-Red Antifouling | Cuprous oxide; 3(2H)-Isothiazolone, 4,5-dichloro-2-octyl-.
2935-539 | 2935 | Potato Seed Treater PS | Mancozeb.
2935-541 | 2935 | Potato Seed Treater 6% | Mancozeb.
3487-29 | 3487 | Eagles-7 Dust | Deltamethrin.
4959-21 | 4959 | Clean Sanitizer | Nonylphenoxypolyethoxyethanol—iodine complex; Phosphoric acid.
7946-11 | 7946 | Mauget Inject-A-Cide B | Dicrotophos.
7946-36 | 7946 | Tebuject 16 HP | Tebuconazole.
8596-33 | 8596 | Grain Shield | Propionic acid.
10250-56 | 10250 | Hempel's Antifouling Globic 81920 Red 51110 | Cuprous oxide; 3(2H)-Isothiazolone, 4,5-dichloro-2-octyl-.
10350-56 | 10350 | Sodium Pyrithione | Sodium pyrithione.
11411-22 | 11411 | Crystal Care Pro Grade Granular Trichlor | Trichloro-s-triazinetrione.
35936-1 | 35936 | Elm Fungicide | Carbamic acid, 1H-benzimidazol-2-yl-, methyl ester, phosphate (1:1).
44891-22 | 44891 | Smart Solution Antifouling Spray | 1H-Pyrrole-3-carbonitrile,4-bromo-2-(4-chlorophenyl)-5-(trifluoromethyl)-.
44891-26 | 44891 | Aquagard II Waterbase Antifouling Paint for Aluminum Hulls | Cuprous oxide.
49158-1 | 49158 | Rug Doctor Antibacterial Carpet Cleaner | Hydrogen peroxide.
54705-5 | 54705 | Weed Stopper | Oryzalin.
57787-35 | 57787 | Proteam Power Magic AC Superoxidizer | Boron sodium oxide (B4Na2O7), pentahydrate; Calcium hypochlorite.
58185-31 | 58185 | Duosan WSB Wettable Powder Turf and Ornamental Fungicide | Mancozeb; Thiophanate-methyl.
58616-6 | 58616 | 3024 | Sodium bromide.
58866-13 | 58866 | Cinnacure Ready to Use | Cinnamaldehyde.
59657-2 | 59657 | Color Ripe/Witchaway | Ethylene.
61463-2 | 61463 | Binab T Wettable Powder Biorational Fungicide | Trichoderma polysporum (ATCC 20475); Trichoderma viride (ATCC 20476).
62577-15 | 62577 | Ecopco WP/X | Oil of thyme; Pyrethrins; Propionic acid, phenethyl ester.
63761-2 | 63761 | Ultra-Kleen CW-502 | Alkyl* dimethyl benzyl ammonium chloride *(95%C14, 3%C12, 2%C16).
63761-5 | 63761 | Sterilex Ultra Powder | Alkyl* dimethyl benzyl ammonium chloride *(95%C14, 3%C12, 2%C16); Sodium percarbonate.
66397-4 | 66397 | MCP Trichlor Granular | Trichloro-s-triazinetrione.
67071-50 | 67071 | Acticide LA 2605-F | Bronopol; 2-Methyl-3(2H)-isothiazolone; 5-Chloro-2-methyl-3(2H)-isothiazolone.
67071-66 | 67071 | Acticide IPS 40 | Carbamic acid, butyl-, 3-iodo-2-propynyl ester.
67071-101 | 67071 | Acticide ZP 100-F | Zinc pyrithione.
67071-107 | 67071 | Acticide BWS 10-F | 1,2-Benzisothiazolin-3-one.
67503-2 | 67503 | Medachieve Multi-Purpose 10% E.C | Permethrin.
67572-20 | 67572 | R & M Aloe Repellent Treatment #11 | MGK 264; Piperonyl butoxide; Pyrethrins; MGK 326.
68086-11 | 68086 | Synergy Labs Groomer's Blend Flea Shampoo | Permethrin.
68086-12 | 68086 | First Defense Premise Treatment | Boric acid.
69340-1 | 69340 | Anprolene AN-71/73 | Ethylene oxide.
69470-2 | 69470 | CDB-63 Dry Chlorinated Compound Coarse | Sodium dichloro-s-triazinetrione.
69470-3 | 69470 | CDB-63 Dry Chlorinated Compound Medium | Sodium dichloro-s-triazinetrione.
69470-23 | 69470 | CDB Sani Fizz 50 LT | Sodium dichloro-s-triazinetrione.
69470-29 | 69470 | Clearon Dichlor 63 | Sodium dichloro-s-triazinetrione.
69470-31 | 69470 | Yellow Algae Remover | Sodium bromide.
69470-34 | 69470 | Bromine Shock | Sodium bromide; Sodium dichloro-s-triazinetrione.
69625-2 | 69625 | Silver Nitrate | Silver nitrate.
70529-1 | 70529 | Chlorine Gas | Chlorine.
70529-2 | 70529 | Aqua Chlor Chlorinating Solution | Sodium hypochlorite.
70908-4 | 70908 | Phos Pro Fungicide | Dipotassium phosphite (K2HPO3).
71049-1 | 71049 | KT-30 Plant Growth Regulator | Forchlorfenuron.
71771-7 | 71771 | HARP-N-TEK | Harpin alpha beta protein.
71771-10 | 71771 | Mighty Plant with Messenger Gold | Harpin protein.
74229-1 | 74229 | Magna CIDE D | Nabam 15; Sodium dimethyldithiocarbamate.
74779-20 | 74779 | Trimtect 3.0 | Ethephon; Paclobutrazol.
74831-20005 | 74831 | Super-Chlor | Calcium hypochlorite.
75748-1 | 75748 | Borer-Stop Ecotab | Acephate.
81402-2 | 81402 | Traveler's Supply Inc. Permethrin Clothing & Gear Insect Repellent Concentrate | Permethrin.
81927-28 | 81927 | Alligare Cody Herbicide | 2,4-D, triisopropanolamine salt; Clopyralid, monoethanolamine salt.
81927-75 | 81927 | PD 2 | Dicamba; 2,4-D, triisopropanolamine salt; Picloram, triisopropanolamine salt.
83402-1 | 83402 | Zestat A-100 | Cetyl pyridinium chloride.
83402-2 | 83402 | Zestat Preservative | Cetyl pyridinium chloride.
84069-1 | 84069 | Summerset Alldown Concentrate | Citric acid; Vinegar.
84069-2 | 84069 | Summerset Alldown Herbicide | Citric acid; Vinegar.
84316-1 | 84316 | Moss Buster | Oregano oil.
84846-13 | 84846 | Arcus FS | Complex Polymeric Polyhydroxy Acid (CPPA).
85678-9 | 85678 | Ethephon 2 | Ethephon.
85678-38 | 85678 | Fomesafen 2 SL | Sodium salt of fomesafen.
85678-39 | 85678 | Clethodim 70% MUP | Clethodim.
86130-9 | 86130 | Flowchem FCB-13 | Glutaraldehyde.
86363-12 | 86363 | KT Clethodim 2EC | Clethodim.
86363-23 | 86363 | KT Dicamba 4 DMA | Dicamba.
86363-24 | 86363 | KT Glyphosate 41 | Glyphosate-isopropylammonium.
86363-25 | 86363 | KT Dicamba 2,4-D DMA | Dicamba, dimethylamine salt; 2,4-D, dimethylamine salt.
86374-2 | 86374 | ECOPEL All-Family Insect Repellent Spray | Picaridin.
86801-1 | 86801 | SWIMCAS-CHLOR | Sodium hypochlorite.
87093-11 | 87093 | Herbicidal Concentrate | Pelargonic acid, ammonium salt.
87093-12 | 87093 | LN Iron HEDTA | Ferric HEDTA.
87655-2 | 87655 | Fomesafen 2 SL Herbicide | Sodium salt of fomesafen.
87663-1 | 87663 | Emery Agro 7000 Concentrate | Pelargonic acid, ammonium salt.
87845-11 | 87845 | LambdaC Insecticide | Lambda-Cyhalothrin.
87978-8 | 87978 | Surtivo Ultra | Polyhedral occlusion bodies of Helicoverpa zea Nucleopolyhedrovirus ABA-NPV-U; Spodoptera frugiperda Multiple Nucleopolyhedrovirus strain 3AP2; Chrysodeixis includens Nucleopolyhedrovirus, isolate #460; Autographa californica multiple NPV strain R3.
87978-9 | 87978 | Surtivo Plus | Polyhedral occlusion bodies of Helicoverpa zea Nucleopolyhedrovirus ABA-NPV-U; Spodoptera frugiperda Multiple Nucleopolyhedrovirus strain 3AP2; Chrysodeixis includens Nucleopolyhedrovirus, isolate #460; Autographa californica multiple NPV strain R3.
88082-4 | 88082 | Fipronil Technical | Fipronil.
88082-5 | 88082 | Spot and Clear for Cats | Fipronil.
88082-6 | 88082 | Spot and Clear for Dogs | Fipronil.
88810-1 | 88810 | Oblitiroot | Dichlobenil.
88929-1 | 88929 | Myris-100 | Alkyl* dimethyl benzyl ammonium chloride *(100%C14).
89094-2 | 89094 | Multi Purpose Cleaner Wipe | Hydrogen peroxide.
89094-3 | 89094 | Bathroom Spray | Hydrogen peroxide.
89094-4 | 89094 | Glass Spray | Hydrogen peroxide.
89160-1 | 89160 | Microbecare XLP | 1-Octadecanaminium, N,N-dimethyl-N-(3-(trimethoxysilyl)propyl)-, chloride.
89609-3 | 89609 | Vetguard For Cats | Fipronil.
89850-3 | 89850 | Semios CM Standard | CheckMate Technical Pheromone.
89850-8 | 89850 | Semios Now Plus | (Z,Z)-11,13-Hexadecadienal.
89850-9 | 89850 | Semios Now Standard | (Z,Z)-11,13-Hexadecadienal.
89850-10 | 89850 | Semios OBLR/PLR Standard | (Z)-11-Tetradecenyl acetate.
91421-1 | 91421 | Mosquitno Insect Repellent Family Spray | Picaridin.
91853-1 | 91853 | Potassium Silicate Technical | Potassium silicate.
93650-1 | 93650 | Incopper | Copper as metallic (in the form of chelates of copper citrate and copper gluconate).
93664-1 | 93664 | Q Shield Professional Surface Protector | Alkyl* dimethyl benzyl ammonium chloride *(50%C14, 40%C12, 10%C16); 1-Octadecanaminium,N,N-dimethyl-N-[3-(trihydroxysilyl)propyl], chloride.
94085-1 | 94085 | Bug Oil Ornamental | Canola oil; Oil of thyme; Oils, Tagetes; Oils, wintergreen.
94085-2 | 94085 | Bug Oil Food Use | Canola oil; Oil of thyme; Oils, Tagetes; Oils, wintergreen.
94085-3 | 94085 | Bug Oil-O | Canola oil; Oil of thyme; Oils, Tagetes; Oils, wintergreen.
94572-3 | 94572 | Halo Pure Bacteriostatic Water Cartridge | Bromine.
94572-4 | 94572 | Halopure Bacteriostatic Pitcher Cartridge | Bromine.
95407-1 | 95407 | AK600 Solar Pool Ionizer | Copper as elemental.
96148-3 | 96148 | Jebagro Clethodim 26.4% EC | Clethodim.
96148-4 | 96148 | Jebagro Mesotrione 480 SC | Mesotrione.
97092-1 | 97092 | Dr J's Disinfectant Spray | Alkyl* dimethyl benzyl ammonium chloride *(50%C14, 40%C12, 10%C16); 1-Decanaminium, N,N-dimethyl-N-octyl-, chloride; 1-Decanaminium, N-decyl-N,N-dimethyl-, chloride; 1-Octanaminium, N,N-dimethyl-N-octyl-, chloride.
97092-2 | 97092 | Dr J's Surface Disinfectant Wipes | Alkyl* dimethyl benzyl ammonium chloride *(50%C14, 40%C12, 10%C16); 1-Decanaminium, N,N-dimethyl-N-octyl-, chloride;1-Decanaminium, N-decyl-N,N-dimethyl-, chloride; 1-Octanaminium, N,N-dimethyl-N-octyl-, chloride.
97543-1 | 97543 | Protect-AM | 1-Octadecanaminium,N,N-dimethyl-N-[3-(trihydroxysilyl)propyl], chloride.
98003-1 | 98003 | Novabay Hard Nonporous Surface Pro | Hypochlorous Acid.
98003-2 | 98003 | Avenova Surface Pro Plus | Hypochlorous Acid.
98099-1 | 98099 | PX10 | Sodium chlorite.
100629-1 | 100629 | Durisan | 1-Decanaminium, N-decyl-N,N-dimethyl-, chloride.
*CA080020 | 68127 | Goaltender | Oxyfluorfen.
ID070015 | 95290 | Telone II | Telone.
MO120003 | 69969 | Avipel (Dry) Corn Seed Treatment | Anthraquinone.
MO130003 | 69969 | Avipel (Dry) Corn Seed Treatment | Anthraquinone.
MO140001 | 69969 | Avipel (Dry) Corn Seed Treatment | Anthraquinone.
MO140002 | 69969 | Avipel Liquid Corn Seed Treatment | Anthraquinone.
MT130002 | 69969 | Avipel Liquid Corn Seed Treatment | Anthraquinone.
NC050004 | 95290 | Curfew | Telone.
NC980005 | 56907 | Color Ripe/Witchaway | Ethylene.
NY170004 | 9359 | Surchlor (12.5% Sodium Hypochlorite Solution) | Sodium hypochlorite.
OK200001 | 96032 | Guardian-50 | Hypochlorous acid.
OR940038 | 95290 | Telone Ii | Telone.
VT130001 | 69969 | Avipel Liquid Corn Seed Treatment | Anthraquinone.
VT130002 | 69969 | Avipel (Dry) Corn Seed Treatment | Anthraquinone.
WA940038 | 95290 | Telone Ii | Telone.

IV. Summary of Public Comments Received and Agency Response to Comments

During the public comment period provided in the notice of receipt that published in the Federal Register of August 12, 2022, EPA received no comments on the requests for voluntary cancellations of products listed in Table 1 of Unit III.

V. Cancellation Order

Pursuant to FIFRA section 6(f) (7 U.S.C. 136d(f)), EPA hereby approves the requested cancellations of the registrations identified in Table 1 of Unit III. Accordingly, the Agency hereby orders that the product registrations identified in Table 1 of Unit III. are canceled. The effective date of the cancellations that are the subject of this notice is October 18, 2022. Any distribution, sale, or use of existing stocks of the products identified in Table 1 of Unit III. in a manner inconsistent with any of the provisions for disposition of existing stocks set forth in Unit VII. will be a violation of FIFRA.

VI. What is the Agency's authority for taking this action?

FIFRA section 6(f)(1) (7 U.S.C. 136d(f)(1)) provides that a registrant of a pesticide product may at any time request that any of its pesticide registrations be canceled or amended to terminate one or more uses. FIFRA further provides that, before acting on the request, EPA must publish a notice of receipt of any such request in the Federal Register. Thereafter, following the public comment period, the EPA Administrator may approve such a request.

VII. Provisions for Disposition of Existing Stocks

Existing stocks are those stocks of registered pesticide products which are currently in the United States, and which were packaged, labeled, and released for shipment prior to the effective date of the cancellation action. The existing stocks provisions for the products subject to this order are as follows.

The registrants may continue to sell and distribute existing stocks of products listed in Table 1 of Unit III. until January 15, 2023. Thereafter, the registrants are prohibited from selling or distributing products listed in Table 1 of Unit III., except for export in accordance with FIFRA section 17 (7 U.S.C. 136o), or proper disposal. Persons other than the registrants may sell, distribute, or use existing stocks of products listed in Table 1 of Unit III. until existing stocks are exhausted, provided that such sale, distribution, or use is consistent with the terms of the previously approved labeling on, or that accompanied, the canceled products.

Authority: 7 U.S.C. 136 et seq.

Dated: September 28, 2022.
Marietta Echeverria,
Acting Director, Registration Division, Office of Pesticide Programs.

[FR Doc. 2022-22582 Filed 10-17-22; 8:45 am]

BILLING CODE 6560-50-P